DEPARTMENT OF COMMERCE

National Oceanic and Atmospheric Administration

RIN 0648-XB27

Marine Mammals; File No. 373-1868

AGENCY: National Marine Fisheries Service (NMFS), National Oceanic and Atmospheric Administration (NOAA), Commerce.

ACTION: Notice; withdrawal of application.

SUMMARY: Notice is hereby given that the Point Reyes Bird Observatory, 3820 Cypress Drive #11, Petaluma, California 94954, has withdrawn an application for an amendment to Permit No. 373-1868 for takes of Steller sea lions (Eumetopias jubatus) incidental to research.

ADDRESSES: The documents related to this action are available for review upon written request or by appointment in the following offices:

Permits, Conservation and Education Division, Office of Protected Resources, NMFS, 1315 East-West Highway, Room 13705, Silver Spring, MD 20910; phone (301)713-2289; fax (301)427-2521; and

Southwest Region, NMFS, 501 West Ocean Blvd., Suite 4200, Long Beach, CA 90802-4213; phone (562)980-4001; fax (562)980-4018.

FOR FURTHER INFORMATION CONTACT: Amy Sloan or Jaclyn Daly, (301)713-2289.SUPPLEMENTARY INFORMATION:

On July 10, 2007, notice was published in the Federal Register (71 FR 44020) that an application had been filed by the above-named organization for authorization to incidentally harass Steller sea lions during research on pinnipeds in California. The applicant has withdrawn the application.

Dated: July 18, 2008.
P. Michael Payne,
Chief, Permits, Conservation and Education Division, Office of Protected Resources, National Marine Fisheries Service.

[FR Doc. E8-16988 Filed 7-23-08; 8:45 am]

BILLING CODE 3510-22-S